DEPARTMENT OF TRANSPORTATION

Federal Aviation Administration

14 CFR Parts 26, 121, and 129

[Docket No. FAA-2006-24281; Amendment Nos. 26-6, 121-360, 129-51]

RIN 2120-AI05

Aging Airplane Program: Widespread Fatigue Damage; Technical Amendment

AGENCY: Federal Aviation Administration, DOT.

ACTION: Final rule; technical amendment.

SUMMARY: The FAA is correcting a final rule published on November 15, 2010. That rule required design approval holders of certain existing airplanes and all applicants for type certificates of future transport category airplanes to establish a limit of validity of the engineering data that supports the structural maintenance program (hereinafter referred to as LOV). It also required that operators of any affected airplane incorporate the LOV into the maintenance program for that airplane. This document corrects errors in codified text of that document.

DATES: Effective May 24, 2012.

FOR FURTHER INFORMATION CONTACT: For technical questions concerning this action, contact Walter Sippel, ANM-115, Airframe/Cabin Safety Branch, Federal Aviation Administration, 1601 Lind Avenue SW., Renton, WA 98057-3356; telephone (425) 227-2774; facsimile (425) 227-1232; email walter.sippel@faa.gov.

For legal questions concerning this action, contact Doug Anderson, Office of Regional Counsel, Federal Aviation Administration, 1601 Lind Avenue SW., Renton, WA 98057-3356; telephone (425) 227-2166; facsimile (425) 227-1007; email douglas.anderson@faa.gov.

SUPPLEMENTARY INFORMATION:

Background

On November 15, 2010, the FAA published a final rule entitled, “Aging Airplane Program: Widespread Fatigue Damage,” (75 FR 69746). In that final rule the FAA revised the regulations pertaining to certification and operation of transport category airplanes to prevent widespread fatigue damage in those airplanes. For certain existing airplanes, the rule required design approval holders to evaluate their airplanes to establish an LOV. For future airplanes, the rule required all applicants for type certificates, after the effective date of the rule, to establish an LOV. Design approval holders and applicants must demonstrate that the airplane will be free from widespread fatigue damage up to the LOV. The rule requires that operators of any affected airplane incorporate the LOV into the maintenance program for that airplane. After issuing the final rule, the FAA determined minor technical changes are needed to correct dates for establishing LOVs for Airbus A310 and A300-600 series airplanes for compliance with § 26.21. Based on that change, the FAA determined minor technical changes are also needed to correct dates for operators to comply with § 121.1115 or § 129.115. We inadvertently included those airplanes in the group of airplane models for which the following compliance times apply:

• 18 months after January 14, 2011, for design approval holders (DAHs).

• 30 months after January 14, 2011, for operators.

Change to Table 1 of § 26.21

The change to Table 1 of § 26.21 corrects the compliance date for the Airbus A310 and A300-600 series airplanes from 18 to 48 months after January 14, 2011. This change is relieving and corrects an inconsistency with the intent of the rule and does not impact the ability of Airbus to comply with § 26.21. As stated in the preamble of the rule entitled, “Aging Airplane Program: Widespread Fatigue Damage,” the FAA intended to phase in compliance based on the airplane's certification basis relative to § 25.571 (Group I: pre-Amendment 25-45, Group II: Amendment 25-45 up to but not including 25-96, and Group III: Amendment 25-96 and later). We included the A310 and A300-600 series airplanes in Group I, with a compliance time of 18 months, but they should have been included in Group II, with a compliance time of 48 months. The type certificate data sheet, A35EU, revision 25, dated May 28 2010, identifies the amendment level of the A310 as Amendment 25-45. The A300-600 is listed with § 25.571 at various amendment levels, including some versions with pre-Amendment 25-45. However, through post-certification assessments, Airbus has shown that all versions of the A300-600 meet the requirements of Amendment 25-45, and the FAA has recognized this in other rulemaking actions (see Damage Tolerance Data for Repairs and Alterations, 72 FR 70486).

Change to Table 1 of § 121.1115 and § 129.115

The change to Table 1 of §§ 121.1115 and 129.115 corrects the compliance date for operators of Airbus A310 and A300-600 series airplanes from 30 to 60 months after January 14, 2011. This change corresponds to the change to Table 1 of § 26.21, is relieving, corrects an inconsistency with the intent of the rule, and does not impact the ability of operators to comply with § 121.1115 or § 129.115. As stated in the preamble of the rule entitled, “Aging Airplane Program: Widespread Fatigue Damage,” the FAA intended to phase in compliance based on the airplane's certification basis relative to § 25.571. We included the A310 and A300-600 series airplanes in Group I, with a compliance time of 30 months, but they should have been incorporated in Group II, with a compliance date of 60 months.

Technical Amendment

This technical amendment corrects the compliance dates of § 26.21, § 121.1115, and § 129.115 for Airbus A310 and A300-600 series airplanes.

Because the changes in this technical amendment are relieving to affected design approval holders and operators of those airplanes, and results in no substantive change, we find good cause exists under 5 U.S.C. 553(d)(3) to make the amendment effective in less than 30 days.

List of Subjects

14 CFR Part 26

Aircraft, Aviation safety, Continued airworthiness.

14 CFR Parts 121 and 129

Air carriers, Aircraft, Aviation safety, Continued airworthiness, Reporting and recordkeeping requirements.

The Amendment

In consideration of the foregoing, the Federal Aviation Administration amends Chapter I of Title 14, Code of Federal Regulations, parts 26, 121, and 129, as follows:

PART 26—CONTINUED AIRWORTHINESS AND SAFETY IMPROVEMENTS FOR TRANSPORT CATEGORY AIRPLANES

1. The authority citation for part 26 continues to read as follows:

Authority: 49 U.S.C. 106(g), 40113, 44701, 44702 and 44704.

2. Amend § 26.21 by revising Table 1—Compliance Dates for Affected Airplanes, to read as follows:

§ 26.21 Limit of validity.

* * * * *

Table 1—Compliance Dates for Affected Airplanes
Airplane model (all existing ¹ models) | Compliance date— (months after January 14, 2011)
Airbus:
A300 Series | 18
A310 Series, A300-600 Series | 48
A318 Series | 48
A319 Series | 48
A320 Series | 48
A321 Series | 48
A330-200, -200 Freighter, -300 Series | 48
A340-200, -300, -500, -600 Series | 48
A380-800 Series | 60
Boeing:
717 | 48
727 (all series) | 18
737 (Classics): 737-100, -200, -200C, -300, -400, -500 | 18
737 (NG): 737-600, -700, -700C, -800, -900, -900ER | 48
747 (Classics): 747-100, -100B, -100B SUD, -200B, -200C, -200F, -300, 747SP, 747SR | 18
747-400: 747-400, -400D, -400F | 48
757 | 48
767 | 48
777-200, -300 | 48
777-200LR, 777-300ER, 777F | 60
Bombardier:
CL-600: 2D15 (Regional Jet Series 705), 2D24 (Regional Jet Series 900) | 60
Embraer:
ERJ 170 | 60
ERJ 190 | 60
Fokker:
F.28 Mark 0070, Mark 0100 | 18
Lockheed:
L-1011 | 18
188 | 18
382 (all series) | 18
McDonnell Douglas:
DC-8, -8F | 18
DC-9 | 18
MD-80 (DC-9-81, -82, -83, -87, MD-88) | 18
MD-90 | 48
DC-10 | 18
MD-10 | 48
MD-11, -11F | 48
All Other Airplane Models Listed on a Type Certificate as of January 14, 2011 | 60
¹ Type certificated as of January 14, 2011.

PART 121—OPERATING REQUIREMENTS: DOMESTIC, FLAG, AND SUPPLEMENTAL OPERATIONS

3. The authority citation for part 121 continues to read as follows:

Authority: 49 U.S.C. 106(g), 40113, 40119, 41706, 44101, 44701-44702, 44705, 44709-44711, 44713, 44716-44717, 44722, 44901, 44903-44904, 44912, 45101-45105, 46105, 46301.

4. Amend § 121.1115 by revising Table 1—Airplanes Subject to § 26.21, to read as follows:

§ 121.1115 Limit of validity.

* * * * *

Table 1—Airplanes Subject to § 26.21
Airplane model | Compliance date—months after January 14, 2011 | Default LOV [flight cycles (FC) or flight hours (FH)]
Airbus—Existing ¹ Models Only:
A300 B2-1A, B2-1C, B2K-3C, B2-203 | 30 | 48,000 FC
A300 B4-2C, B4-103 | 30 | 40,000 FC
A300 B4-203 | 30 | 34,000 FC
A300-600 Series | 60 | 30,000 FC/67,500 FH
A310-200 Series | 60 | 40,000 FC/60,000 FH
A310-300 Series | 60 | 35,000 FC/60,000 FH
A318 Series | 60 | 48,000 FC/60,000 FH
A319 Series | 60 | 48,000 FC/60,000 FH
A320-100 Series | 60 | 48,000 FC/48,000 FH
A320-200 Series | 60 | 48,000 FC/60,000 FH
A321 Series | 60 | 48,000 FC/60,000 FH
A330-200, -300 Series (except WV050 family) (non enhanced) | 60 | 40,000 FC/60,000 FH
A330-200, -300 Series WV050 family (enhanced) | 60 | 33,000 FC/100,000 FH
A330-200 Freighter Series | 60 | See NOTE.
A340-200, -300 Series (except WV 027 and WV050 family) (non enhanced) | 60 | 20,000 FC/80,000 FH
A340-200, -300 Series WV 027 (non enhanced) | 60 | 30,000 FC/60,000 FH
A340-300 Series WV050 family (enhanced) | 60 | 20,000 FC/100,000 FH
A340-500, -600 Series | 60 | 16,600 FC/100,000 FH
A380-800 Series | 72 | See NOTE.
Boeing—Existing ¹ Models Only:
717 | 60 | 60,000 FC/60,000 FH
727 (all series) | 30 | 60,000 FC
737 (Classics): 737-100, -200, -200C, -300, -400, -500 | 30 | 75,000 FC
737 (NG): 737-600, -700, -700C, -800, -900, -900ER | 60 | 75,000 FC
747 (Classics): 747-100, -100B, -100B SUD, -200B, -200C, -200F, -300, 747SP, 747SR
747-400: 747-400, -400D, -400F | 30 | 20,000 FC
757 | 60 | 20,000 FC
767 | 60 | 20,000 FC
777-200, -300 | 60 | 50,000 FC
777-200LR, 777-300ER | 60 | 50,000 FC
777F | 60 | 40,000 FC
| 72 | 40,000 FC
| 72 | 11,000 FC
Bombardier—Existing ¹ Models Only:
CL-600: 2D15 (Regional Jet Series 705), 2D24 (Regional Jet Series 900) | 72 | 60,000 FC
Embraer—Existing ¹ Models Only:
ERJ 170 | 72 | See NOTE.
ERJ 190 | 72 | See NOTE.
Fokker—Existing ¹ Models Only:
F.28 Mark 0070, Mark 0100 | 30 | 90,000 FC
Lockheed—Existing ¹ Models Only:
L-1011 | 30 | 36,600 FC
188 | 30 | 20,000 FC
382 (all series) | 30 | 20,000 FC/50,000 FH
McDonnell Douglas—Existing ¹ Models Only:
DC-8, -8F | 30 | 50,000 FC/50,000 FH
DC-9 (except for MD-80 models) | 30 | 100,000 FC/100,000 FH
MD-80 (DC-9-81, -82, -83, -87, MD-88) | 30 | 50,000 FC/50,000 FH
MD-90 | 60 | 60,000 FC/90,000 FH
DC-10-10, -15 | 30 | 42,000 FC/60,000 FH
DC-10-30, -40, -10F, -30F, -40F | 30 | 30,000 FC/60,000 FH
MD-10-10F | 60 | 42,000 FC/60,000 FH
MD-10-30F | 60 | 30,000 FC/60,000 FH
MD-11, MD-11F | 60 | 20,000 FC/60,000 FH
Maximum Takeoff Gross Weight Changes:
All airplanes whose maximum takeoff gross weight has been decreased to 75,000 pounds or below after January 14, 2011, or increased to greater than 75,000 pounds at any time by an amended type certificate or supplemental type certificate | 30, or within 12 months after the LOV is approved, or before operating the airplane, whichever occurs latest | Not applicable.
All Other Airplane Models (TCs and amended TCs) not Listed in Table 2 | 72, or within 12 months after the LOV is approved, or before operating the airplane, whichever occurs latest | Not applicable.
¹ Type certificated as of January 14, 2011.
Note: Airplane operation limitation is stated in the Airworthiness Limitation section.

* * * * *

PART 129—OPERATIONS: FOREIGN AIR CARRIERS AND FOREIGN OPERATORS OF U.S.-REGISTERED AIRCRAFT ENGAGED IN COMMON CARRIAGE

5. The authority citation for part 129 continues to read:

Authority: 49 U.S.C. 1372, 40113, 40119, 44101, 44701-44702, 44705, 44709-44711, 44713, 44716-44717, 44722, 44901-44904, 44906, 44912, 46105, Pub. L. 107-71 sec. 104.

6. Amend § 129.115 by revising Table 1—Airplanes Subject to § 26.21, to read as follows:

§ 129.115 Limit of validity.

* * * * *

Table 1—Airplanes Subject to § 26.21
Airplane model | Compliance date—months after January 14, 2011 | Default LOV [flight cycles (FC) or flight hours (FH)]
Airbus—Existing ¹ Models Only:
A300 B2-1A, B2-1C, B2K-3C, B2-203 | 30 | 48,000 FC
A300 B4-2C, B4-103 | 30 | 40,000 FC
A300 B4-203 | 30 | 34,000 FC
A300-600 Series | 60 | 30,000 FC/67,500 FH
A310-200 Series | 60 | 40,000 FC/60,000 FH
A310-300 Series | 60 | 35,000 FC/60,000 FH
A318 Series | 60 | 48,000 FC/60,000 FH
A319 Series | 60 | 48,000 FC/60,000 FH
A320-100 Series | 60 | 48,000 FC/48,000 FH
A320-200 Series | 60 | 48,000 FC/60,000 FH
A321 Series | 60 | 48,000 FC/60,000 FH
A330-200, -300 Series (except WV050 family) (non enhanced) | 60 | 40,000 FC/60,000 FH
A330-200, -300 Series WV050 family (enhanced) | 60 | 33,000 FC/100,000 FH
A330-200 Freighter Series | 60 | See NOTE.
A340-200, -300 Series (except WV 027 and WV050 family) (non enhanced) | 60 | 20,000 FC/80,000 FH
A340-200, -300 Series WV 027 (non enhanced) | 60 | 30,000 FC/60,000 FH
A340-300 Series WV050 family (enhanced) | 60 | 20,000 FC/100,000 FH
A340-500, -600 Series | 60 | 16,600 FC/100,000 FH
A380-800 Series | 72 | See NOTE.
Boeing—Existing ¹ Models Only:
717 | 60 | 60,000 FC/60,000 FH
727 (all series) | 30 | 60,000 FC
737 (Classics): 737-100, -200, -200C, -300, -400, -500 737 (NG): 737-600, -700, -700C, -800, -900, -900ER | 30 | 75,000 FC
| 60 | 75,000 FC
747 (Classics): 747-100, -100B, -100B SUD, -200B, -200C, -200F, -300, 747SP, 747SR
747-400: 747-400, -400D, -400F | 30 | 20,000 FC
757 | 60 | 20,000 FC
767
777-200, -300 | 60 | 50,000 FC
777-200LR, 777-300ER | 60 | 50,000 FC
777F | 60 | 40,000 FC
| 72 | 40,000 FC
| 72 | 11,000 FC
Bombardier—Existing ¹ Models Only:
CL-600: 2D15 (Regional Jet Series 705), 2D24 (Regional Jet Series 900) | 72 | 60,000 FC
Embraer—Existing ¹ Models Only:
ERJ 170 | 72 | See NOTE.
ERJ 190 | 72 | See NOTE.
Fokker—Existing ¹ Models Only:
F.28 Mark 0070, Mark 0100 | 30 | 90,000 FC
Lockheed—Existing ¹ Models Only:
L-1011 | 30 | 36,000 FC
188 | 30 | 26,600 FC
382 (all series) | 30 | 20,000 FC/50,000 FH
McDonnell Douglas—Existing ¹ Models Only:
DC-8, -8F | 30 | 50,000 FC/50,000 FH
DC-9 (except for MD-80 models) | 30 | 100,000 FC/100,000 FH
MD-80 (DC-9-81, -82, -83, -87, MD-88) | 30 | 50,000 FC/50,000 FH
MD-90 | 60 | 60,000 FC/90,000 FH
DC-10-10, -15 | 30 | 42,000 FC/60,000 FH
DC-10-30, -40, -10F, -30F, -40F | 30 | 30,000 FC/60,000 FH
MD-10-10F | 60 | 42,000 FC/60,000 FH
MD-10-30F | 60 | 30,000 FC/60,000 FH
MD-11, MD-11F | 60 | 20,000 FC/60,000 FH
Maximum Takeoff Gross Weight Changes:
All airplanes whose maximum takeoff gross weight has been decreased to 75,000 pounds or below after January 14, 2011, or increased to greater than 75,000 pounds at any time by an amended type certificate or supplemental type certificate | 30, or within 12 months after the LOV is approved, or before operating the airplane, whichever occurs latest | Not applicable.
All Other Airplane Models (TCs and amended TCs) Not Listed in Table 2 | 72, or within 12 months after the LOV is approved, or before operating the airplane, whichever occurs latest | Not applicable.
¹ Type certificated as of January 14, 2011.
Note: Airplane operation limitation is stated in the Airworthiness Limitation section.

* * * * *

Issued in Washington, DC, on May 18, 2012.
Lirio Liu,
Acting Director, Office of Rulemaking.

[FR Doc. 2012-12658 Filed 5-23-12; 8:45 a.m.]

BILLING CODE 4910-13-P